DEPARTMENT OF HEALTH AND HUMAN SERVICES

Health Resources and Services Administration

Agency Information Collection Activities: Proposed Collection; Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1891.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of the Health Care for the Homeless Respite Pilot Initiative—New

The Bureau of Primary Health Care (BPHC), Health Resources Services Administration (HRSA), proposes to conduct an evaluation of the Health Care for the Homeless (HCH) Respite Pilot Initiative. Data will be collected from the ten HCH grantees participating in the Pilot Initiative. The evaluation will be developed and conducted by the National Health Care for the Homeless Council through a cooperative agreement with the BPHC. The focus of the evaluation will be on assessing the effect of respite services on the health of homeless people as well as looking at any differences in outcomes based on client or program characteristics. The evaluation will be conducted throughout the three-year period of the Pilot Initiative.

The estimated response burden is as follows:

Type of respondent | Number of respondents | Response per respondents | Hours per response | Total hour burden
HCH Grantees | 10 | 600 | 0.25 | 1500

Send comments to Susan G. Queen, Ph.D., HRSA Reports Clearance Officer, Room 14-33, Parklawn Building, 5600 Fishers Lane, Rockville, MD 20857. Written comments should be received on or before June 26, 2001.

Dated: April 23, 2001.
Jane M. Harrison,
Director, Division of Policy Review and Coordination.

[FR Doc. 01-10529 Filed 4-26-01; 8:45 am]

BILLING CODE 4160-15-U